DEPARTMENT OF THE INTERIOR

National Park Service

[N6321; NPS-WASO-NAGPRA-NPS0040509; PPWOCRADN0-PCU00RP14.R50000]

Notice of Inventory Completion: The University of Kansas, Lawrence, KS

AGENCY: National Park Service, Interior.

ACTION: Notice.

SUMMARY: In accordance with the Native American Graves Protection and Repatriation Act (NAGPRA), the University of Kansas has completed an inventory of human remains and associated funerary objects and has determined that there is a cultural affiliation between the human remains and associated funerary objects and Indian Tribes or Native Hawaiian organizations in this notice.

DATES: Repatriation of the human remains and associated funerary objects in this notice may occur on or after August 27, 2025.

ADDRESSES: Send written requests for repatriation of the human remains and associated funerary objects in this notice to Dr. Thomas Torma, The University of Kansas, Office of Audit, Risk, and Compliance, 1450 Jayhawk Boulevard, 351 Strong Hall, Lawrence, KS 66045, email t-torma@ku.edu.

SUPPLEMENTARY INFORMATION: This notice is published as part of the National Park Service's administrative responsibilities under NAGPRA. The determinations in this notice are the sole responsibility of the University of Kansas, and additional information on the determinations in this notice, including the results of consultation, can be found in its inventory or related records. The National Park Service is not responsible for the determinations in this notice.

Abstract of Information Available

Human remains representing at least five individuals have been identified. The three associated funerary objects are one point, one bone awl, and one lot of split long bone. These individuals and belongings from 14GL401 were uncovered during the construction of a gas pipeline in April 1961. They were donated to the University of Kansas by a Mr. Jerome Bussen.

Human remains representing at least two individuals have been identified. No associated funerary objects are present. In August 1952 the individuals were collected from an unspecified site near Atwood, Kansas in Rawlins County by K.L. Walters and donated to the University of Kansas in 1952.

Human remains representing at least two individuals have been identified. No associated funerary objects are present. These individuals were donated to the University of Kansas in 1953 by the Garden City Police Department after they were discovered in an unspecified location north of Garden City, Kansas in present day Finney County.

Human remains representing at least two individuals have been identified. No associated funerary objects are present. There are no accession records for these individuals. However, the remains included a Physical Evidence Custody Receipt signed by a representative of the Kansas Bureau of Investigation which indicates that the remains come from Gray County, KS.

Human remains representing at least two individuals have been identified. No associated funerary objects are present. These individuals were donated to the University of Kansas on April 17, 1958, by the Code H. Hall, Sheriff of Stevens County after they were discovered near the Cimmaron River on April 12, 1958.

Cultural Affiliation

Based on the information available and the results of consultation, cultural affiliation is reasonably identified by the geographical location or acquisition history of the human remains and associated funerary objects described in this notice.

Determinations

The University of Kansas has determined that:

• The human remains described in this notice represent the physical remains of 13 individuals of Native American ancestry.

• The three objects described in this notice are reasonably believed to have been placed intentionally with or near individual human remains at the time of death or later as part of the death rite or ceremony.

• There is a connection between the human remains and associated funerary objects described in this notice and the Cheyenne and Arapaho Tribes, Oklahoma; Cheyenne River Sioux Tribe of the Cheyenne River Reservation, South Dakota; and the Northern Arapaho Tribe of the Wind River Reservation, Wyoming.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 27, 2025. If competing requests for repatriation are received, the University of Kansas must determine the most appropriate requestor prior to repatriation. Requests for joint repatriation of the human remains and associated funerary objects are considered a single request and not competing requests. The University of Kansas is responsible for sending a copy of this notice to the Indian Tribes and Native Hawaiian organizations identified in this notice.

Authority: Native American Graves Protection and Repatriation Act, 25 U.S.C. 3003, and the implementing regulations, 43 CFR 10.10.

Dated: July 1, 2025.
Melanie O'Brien,
Manager, National NAGPRA Program.

[FR Doc. 2025-14154 Filed 7-25-25; 8:45 am]

BILLING CODE 4312-52-P